FEDERAL COMMUNICATIONS COMMISSION

Privacy Act of 1974; System of Records

AGENCY: Federal Communications Commission.

ACTION: Notice of a modified system of records.

SUMMARY: The Federal Communications Commission (FCC or Commission or Agency) has modified an existing system of records, FCC/OMD-18, Telephone Call Details, subject to the Privacy Act of 1974, as amended. This action is necessary to meet the requirements of the Privacy Act to publish in the Federal Register notice of the existence and character of records maintained by the agency. The FCC's Office of the Managing Director (OMD) uses the Telephone Call Details system to cover the personally identifiable information (PII) that is associated with the administration of the policies and activities concerning telecommunications equipment, functions, and services that pertain to the communications that originate at the Commission (using FCC telecommunications equipment), terminate at the Commission (using FCC telecommunications equipment), and/or are accepted on behalf of the FCC, and the associated costs and charges for these telecommunications equipment, functions, and services.

DATES: Written comments are due on or before April 10, 2017. This action (including the routine uses) will become effective on April 10, 2017 unless comments are received that require a contrary determination.

ADDRESSES: Send comments to Leslie F. Smith, Privacy Manager, Information Technology (IT), Room 1-C216, Federal Communications Commission (FCC), 445 12th Street SW., Washington, DC 20554, or to Leslie.Smith@fcc.gov.

FOR FURTHER INFORMATION CONTACT: Leslie F. Smith, (202) 418-0217, or Leslie.Smith@fcc.gov (and to obtain a copy of the Narrative Statement and the Supplementary Document, which includes details of the proposed changes and updates to this system of records).

SUPPLEMENTARY INFORMATION: This notice serves to update and modify FCC/OMD-18, Telephone Call Details, as a result of the various new and expanded types and uses of telecommunications equipment, functions, and services that are used to send, receive, and/or charge communications to the Commission and other miscellaneous but necessary updates and changes since its previous publication.

SYSTEM NAME AND NUMBER:

FCC/OMD-18, Telephone Call Details.

SECURITY CLASSIFICATION:

No information in the system is classified.

SYSTEM LOCATION:

Information Technology (IT), Office of the Managing Director (OMD), FCC, 445 12th Street SW., Washington, DC 20554.

SYSTEM MANAGER(S) AND ADDRESS:

Information Technology (IT), Office of the Managing Director (OMD), Federal Communications Commission (FCC), 445 12th Street SW., Room 1-C361, Washington, DC 20554.

AUTHORITY FOR MAINTENANCE OF THE SYSTEM:

5 U.S.C. 301, 44 U.S.C. 3101, and 47 U.S.C. 154(i).

PURPOSE(S):

The FCC uses the personally identifiable information (PII) in this system as part of its duties and responsibilities associated with the administration of the FCC's policies, programs, and activities concerning communications equipment, functions, and services and the related communications that originate at the Commission (using FCC telecommunications equipment), terminate at the Commission (using FCC telecommunications equipment), and/or are accepted on behalf of the FCC (e,g., collect call charges), and the associated costs and charges for these telecommunications services and equipment. The PII in this system includes but is not limited to the uses associated with:

1. Accounting for the information contained in the communications bills for these communications that originate from FCC equipment; and

2. Ensuring that the FCC operates efficiently and effectively, and guards against any improper uses of FCC telecommunications equipment.

CATEGORIES OF INDIVIDUALS COVERED BY THE SYSTEM:

Information in the categories of individuals includes, but is not limited to:

FCC staff (including, but not limited to current and former employees, interns, co-op students, and volunteers), FCC contractors, visitors, building and maintenance staff, and/or other individuals who may send, receive, or charge communications, which include but are not limited to voice, text,¹ facsimiles, Voice over Internet Protocol (VoIP), teleconferencing (audio or video), and Federal Relay Service (FRS) from FCC telecommunications equipment (including, but not limited to, wireline telephones, cellular telephones and other mobile devices, video relay phones, VoIP devices, satellite telephones, and teleconferencing equipment).

¹ The FCC does not log or store the real-time text messages from our wireless devices. Only the billing invoice data, which include the calling/from number, date, time, destination/to number and cost, if any, for each text or picture message but not the actual message, are stored.

CATEGORIES OF RECORDS IN THE SYSTEM:

The categories of records in the system include, but are not limited to:

1. Records of communications that originate at the Commission using FCC telecommunications equipment (originating number); that terminate at the Commission received by FCC telecommunications equipment (terminating number), and/or are accepted on behalf of the FCC (e,g., collect call charges), and the associated costs and charges for these telecommunications services and equipment, which include, but are not limited to:

a. Identifying communications numbers (including but not limited to telephone number, fax number, IP address, audio conference bridge number, or other unique communications identifier(s));

b. Time (calls start and calls end) and data usage from the communication;

c. Duration of the communication (lapsed time);

d. Disposition and cost of communications, including FRS and collect call charges;

e. FCC bureau/office to which the relevant identifying communications numbers are assigned; and

f. Email address of the FCC staff to which the relevant identifying communications numbers are assigned;

2. Type and number of FCC telecommunications equipment assigned to FCC staff (employees and contractors);

3. The physical location of FCC telecommunications equipment;

4. Copies of related communications and service records, including any periodic summaries which may have been compiled to reflect the total number and type of communications and related user charges, usages, and fees from FCC headquarters and facilities in Gettysburg, PA and Columbia, MD; and

5. Names of FCC staff and contractors.

RECORD SOURCE CATEGORIES:

The sources for information in this system include, but are not limited to the records for the usage and charges for the telecommunications that originate at the Commission (using FCC telecommunications equipment), terminate at the Commission (using FCC telecommunications equipment), and/or are accepted on behalf of the FCC (e.g., collect call charges), including but is not limited to voice, text, facsimiles, VoIP, FRS (Video Relay Services), satellite telephones, and other teleconferencing services and functions (audio or video), using various telecommunications equipment and devices (including, but not limited to wireline telephones, cellular telephones, other mobile or broadband devices, VoIP devices, satellite telephones, and teleconferencing equipment and services (audio or video)).

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows. In each of these cases, the FCC will determine whether disclosure of the records is compatible with the purpose(s) for which the records were collected:

1. Adjudication and Litigation—To the Department of Justice (DOJ), or other administrative body before which the FCC is authorized to appear, when: (a) The FCC or any component thereof; or (b) any employee of the FCC in his or her official capacity; (c) any employee of the FCC in his or her individual capacity where DOJ or the FCC has agreed to represent the employee; or (d) the United States is a party to litigation or has an interest in such litigation, and the use of such records by DOJ or the FCC is deemed by the FCC to be relevant and necessary to the ligation.

2. Law Enforcement and Investigation—To disclose pertinent information to the appropriate Federal, State, and/or local agency responsible for investigating, prosecuting, enforcing, or implementing a statute, rule, regulation, or order, where the FCC becomes aware of an indication of a violation or potential violation of civil or criminal law or regulation.

3. Congressional Inquiries—To provide information to a congressional office from the record of an individual in response to an inquiry from that congressional office made at the request of that individual.

4. Government-wide Program Management and Oversight—To the National Archives and Records Administration (NARA) for use in its records management inspections; to the Government Accountability Office (GAO) for oversight purposes; to the Department of Justice (DOJ) to obtain that department's advice regarding disclosure obligations under the Freedom of Information Act (FOIA); or to the Office of Management and Budget (OMB) to obtain that office's advice regarding obligations under the Privacy Act.

5. Employment, Clearances, Licensing, Contract, Grant, or other Benefits Decisions by the Agency—To a Federal, State, local, foreign, tribal, or other public agency or authority maintaining civil, criminal, or other relevant enforcement records, or other pertinent records, or to another public authority or professional organization, if necessary to obtain information relevant to an investigation concerning the hiring or retention of an employee or other personnel action, the issuance or retention of a security clearance, the classifying of jobs, the letting of a contract, or the issuance or retention of a license, grant, or other benefit by the requesting agency, to the extent that the information is relevant and necessary to the requesting agency's decisions on the matter.

6. Employment, Clearances, Licensing, Contract, Grant, or other Benefits Decisions by Other than the Agency—To a Federal, State, local, foreign, tribal, or other public agency or authority of the fact that this system of records contains information relevant to the hiring or retention of an employee, the issuance or retention of a security clearance, the conducting of a suitability or security investigation of an individual, the classifying of jobs, the letting of a contract, or the issuance or retention of a license, grant, or other benefit by the requesting agency, to the extent that the information is relevant and necessary to the agency's decision on the matter. The other agency or licensing organization may then make a request supported by the written consent of the individual for the entire records if it so chooses. No disclosure will be made unless the information has been determined to be sufficiently reliable to support a referral to another office within the agency or to another Federal agency for criminal, civil, administrative, personnel, or regulatory action.

7. Labor Relations—To officials of labor organizations recognized under 5 U.S.C. Chapter 71 upon receipt of a formal request and in accord with the conditions of 5 U.S.C. 7114 when relevant and necessary to their duties of exclusive representation concerning personnel policies, practices, and matters affecting working conditions.

8. Breach Notification—To appropriate agencies, entities, and persons when: (a) The Commission suspects or has confirmed that there has been a breach of the system of records; (b) the Commission has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

9. Assistance to Federal Agencies and Entities—To another Federal agency or Federal entity, when the Commission determines that information from this system is reasonably necessary to assist the recipient agency or entity in: (a) Responding to a suspected or confirmed breach or (b) preventing, minimizing, or remedying the risk of harm to individuals, the receipient agency or entity (including its information systems, program, and operations), the Federal Government, or national security, resulting from a suspected or confirmed breach.

10. Telecommunications Companies—To a telecommunications company providing support to permit account servicing, billing verification, and related requirements.

11. For Non-Federal Personnel—To disclose information to contractors performing or working on a contract for the Federal Government.

POLICIES AND PRACTICES FOR STORAGE OF RECORDS:

The paper documents, records, files, and faxes, including but not limited to monthly telephone bills and related documents, are stored in file cabinets in “non-public” rooms in the Information Technology (IT) office suite for one year.

The electronic files, records, and data (i.e., electronic copies of these telecommunications documents), including but not limited to monthly telephone bills and related documents, are housed in the FCC's computer network databases.

POLICIES AND PRACTICES FOR RETRIEVAL OF RECORDS:

The records, including telephone calls, texts, faxes, and related transmissions and services, are retrieved by searching electronically by the individual's name, name of the telephone call recipient, and/or identifying communications number.

POLICIES AND PRACTICES FOR RETENTION AND DISPOSAL OF RECORDS:

The FCC maintains and disposes of these various telephone, fax, text, and related electronic transmission service records in this in accordance with General Records Schedule 12 (GRS-12) issued by the National Archives and Records Administration (NARA). Most of the records in this system are maintained for six months to three years, although some records are kept for six years, depending upon the GRS-12 schedule requirements. The paper copy of the invoice records are destroyed after one year. All monthly telephone records (electronic copies) are sent to NARA—none are destroyed.

The disposition of the paper records is done by shredding. The electronic records are destroyed physically (electronic storage media) or by electronic erasure.

Individuals may obtain a copy of the GRS-12 Schedule at: http://www.archives.gov/records-mgmt/grs/grs12.html.

ADMINISTRATIVE, TECHNICAL, AND PHYSICAL SAFEGUARDS:

The electronic records, data, and files are maintained in the FCC computer network databases, which are protected by the FCC's IT privacy safeguards, a comprehensive and dynamic set of IT safety and security protocols and features that are designed to meet all Federal IT privacy standards, including those required by the National Institute of Standard and Technology (NIST) and the Federal Information Security Management System (FISMA). In addition, access to the information in the telephone call details electronic files databases is restricted to authorized IT supervisors and staff and to the IT contractors who maintain these computer databases. Other FCC employees and contractors may be granted access only on a “need-to-know” basis.

The paper documents and files are maintained in file cabinets in “non-public” rooms in the IT office suite. The file cabinets are locked at the end of the business day. Access to the IT offices is via a key and card-coded door.

NOTIFICATION PROCEDURE:

Individuals wishing to determine whether this system of records contains information about them may do so by writing to Leslie F. Smith, Privacy Manager, Information Technology (IT), Federal Communications Commission (FCC), 445 12th Street SW., Washington, DC 20554, or email Leslie.Smith@fcc.gov.

Individuals must furnish reasonable identification by showing any two of the following: Social security card; driver's license; employee identification card; Medicare card; birth certificate; bank credit card; or other positive means of identification, or by signing an identity statement stipulating that knowingly or willfully seeking or obtaining access to records about another person under false pretenses is punishable by a fine of up to $5,000.

Individuals requesting access must also comply with the FCC's Privacy Act regulations regarding verification of identity and access to records (5 CFR part 0, subpart E).

RECORD ACCESS PROCEDURES:

Individuals wishing to request an amendment of records about them should follow the Notification Procedure above.

CONTESTING RECORD PROCEDURES:

Individuals wishing to request an amendment of records about them should follow the Notification Procedure above.

EXEMPTIONS PROMULGATED FOR THE SYSTEM:

None.

HISTORY:

The FCC last gave full notice of this system of records, FCC/OMD-18, Telephone Call Details, by publication in the Federal Register on April 5, 2006 (71 FR 17234, 17262).

Federal Communications Commission.
Marlene H. Dortch,
Secretary.

[FR Doc. 2017-04714 Filed 3-9-17; 8:45 am]

BILLING CODE 6712-01-P